SMALL BUSINESS ADMINISTRATION

State Trade and Export Promotion (STEP) Pilot Grant Program

AGENCY: Office of International Trade; U.S. Small Business Administration (SBA)

ACTION: SBA Program Announcement No. OIT-STEP-2011-01, Modification #1.

SUMMARY: Program announcement No. OIT-STEP-2011-01 has been modified as follows:

• The application closing date has been extended from April 26 to May 10, 2011.

• Section III. C. 4, INELIGIBLE APPLICANTS FOR THIS COOPERATION AGREEMENT, (p.8), Add: [Note: An applicant will not be considered a pass-through if it is an agency or instrumentality of the government of a State (i.e., is subject to the unilateral control of the State) or if it has been officially designated by a State as being the sole entity responsible for conducting the State's trade and export activities prior to the date of application submission for a STEP grant.]

• Section IV A. 1, Governor's Letter of Endorsement for Applications, (p. 8), Add: If, prior to applying for the STEP grant, a state has designated another agency or instrumentality to have unilateral control of conducting the state's trade export activities, the Letter of Endorsement must: (a) Provide the name of the agency or instrumentality, (b) confirm that the organization will be responsible for conducting the grant activities; and (c) confirm that the state has legal authority and fiduciary responsibility for the grant.

• Appendix 1 (pp. 24-25) has been updated based on the latest data available from the U.S Department of Commerce.

SUPPLEMENTARY INFORMATION: The Small Business Jobs Act of 2010 authorizes the U.S. Small Business Administration to establish a 3-year pilot program, known as the State Trade and Export Promotion (STEP) Grant Program, to make grants to States to assist eligible small business concerns. The objective of the STEP Grant Program is to increase the number of small businesses that are exporting, and increase the value of exports by small businesses in the States. Eligible applicants are each of the States, the District of Columbia, the Commonwealth of Puerto Rico, the U.S. Virgin Islands, Guam, and American Samoa. Applicants may apply at http://www.Grants.gov.

FOR FURTHER INFORMATION CONTACT: E-mail questions about the STEP Grant Program to STEP@sba.gov.

Dated: March 31, 2011.
Luz Hopewell,
Acting Associate Administrator, Office of International Trade.

[FR Doc. 2011-8105 Filed 4-5-11; 8:45 am]

BILLING CODE 8025-01-P